DEPARTMENT OF TRANSPORTATION

Surface Transportation Board

[STB Finance Docket No. 34893]

The Chicago, Lake Shore and South Bend Railway Company—Acquisition and Operation Exemption—Norfolk Southern Railway Company

The Chicago, Lake Shore and South Bend Railway Company (CLS&SB), a noncarrier, has filed a verified notice of exemption under 49 CFR 1150.31 to purchase and operate lines currently owned by Norfolk Southern Railway Company (NSR). The lines consist of approximately 3.2 miles of railroad between milepost UV0.0 and milepost UV2.8, and between milepost ZO9.48 and milepost ZO9.9, including any ownership interest in the spur leading to the University of Notre Dame near South Bend, IN.¹

¹ On June 26, 2006, the City of South Bend, IN, filed a letter-petition seeking revocation of this exemption. CLS&SB filed a reply on that same date. The revocation request will be handled in a subsequent Board decision.

CLS&SB certifies that its projected annual revenues as a result of the transaction will not exceed those that would quality it as a Class III rail carrier and will not exceed $5 million.

The transaction was scheduled to be consummated on or after June 21, 2006, the effective date of the exemption.

If the notice contains false or misleading information, the exemption is void ab initio. Petitions to revoke the exemption under 49 U.S.C. 10502(d) may be filed at any time. The filing of a petition to revoke will not automatically stay the transaction.

An original and 10 copies of all pleadings, referring to STB Finance Docket No. 34893, must be filed with the Surface Transportation Board, 1925 K Street, NW., Washington, DC 20423-0001. In addition, one copy of each pleading must be served on John D. Heffner, 1920 N Street, NW., Suite 800, Washington, DC 20036.

Board decisions and notices are available on our Web site at http://www.stb.dot.gov.

Decided: June 29, 2006.
By the Board, David M. Konschnik, Director, Office of Proceedings.
Vernon A. Williams,
Secretary.

[FR Doc. E6-10540 Filed 7-5-06; 8:45 am]

BILLING CODE 4915-01-P